DEPARTMENT OF HEALTH AND HUMAN SERVICES

National Institutes of Health

National Human Genome Research Institute; Amended Notice of Meeting

Notice is hereby given of a change in the meeting of the National Human Genome Research Institute Special Emphasis Panel, March 15, 2023, 10:00 a.m. to March 15, 2023, 2:00 p.m., NHGRI, 6700B, Rockledge Dr., Bethesda, MD, 20817 which was published in the Federal Register on March 3, 2023, FR Doc 2023-02195, 88 FR 7098.

Amendment to change the meeting date from March 15, 2023 to April 11, 2023. The meeting is closed to the public.

Dated: March 28, 2023.
Melanie J. Pantoja,
Program Analyst, Office of Federal Advisory Committee Policy.

[FR Doc. 2023-06771 Filed 3-31-23; 8:45 am]

BILLING CODE 4140-01-P